DEPARTMENT OF COMMERCE

International Trade Administration

[A-427-001]

Sorbitol From France: Notice of Rescission of Antidumping Duty Administrative Review

AGENCY: Import Administration, International Trade Administration, Department of Commerce.

ACTION: Notice of rescission of antidumping duty administrative review.

SUMMARY: On June 2, 2000 the Department of Commerce (the Department) published in the Federal Register the notice of initiation of an administrative review of the antidumping duty order on sorbitol from France for Amylum France and Amylum SPI Europe. See Initiation of Antidumping and Countervailing Duty Administrative Reviews, 65 FR 35320 (June 2, 2000). This review covers the period April 1, 1999 through March 31, 2000. We are now rescinding this review because we have determined that the respondents had no shipments during the period of review.

EFFECTIVE DATE: April 25, 2001.

FOR FURTHER INFORMATION CONTACT: Fred Baker or Robert James, AD/CVD Enforcement Group III—Office 8, Import Administration, International Trade Administration, U.S. Department of Commerce, 14th Street and Constitution Avenue, NW., Washington, DC 20230; telephone (202) 482-2924 (Baker), (202) 482-0649 (James).

SUPPLEMENTARY INFORMATION:

Applicable Statute

Unless otherwise indicated, all citations to the Tariff Act of 1930, as amended (the Tariff Act), are references to the provisions effective January 1, 1995, the effective date of the amendments made to the Tariff Act by the Uruguay Round Agreements Act (URAA). In addition, unless otherwise indicated, all references to the Department's regulations are to 19 CFR Part 351 (2000).

Background

The Department published an antidumping duty order on sorbitol from France on April 9, 1982 (47 FR 15391). The Department published a notice of “Opportunity to Request an Administrative Review” of the antidumping duty order for the 1999/2000 review period on April 12, 2000 (65 FR 19736). On May 5, 2000 the Department published a correction to the original April 12, 2000 “Opportunity to Request Administrative Review.” On April 28, 2000 Roquette America, Inc. (petitioner) requested that the Department conduct an administrative review of the antidumping duty order for the period April 1, 1999 through March 31, 2000 covering the exports of the French manufacturers/exporters Amylum France and Amylum SPI Europe (collectively Amylum). We published a notice of initiation of the review on June 2, 2000 (65 FR 35320).

Scope of the Review

The merchandise under review is crystalline sorbitol. Crystalline sorbitol is a polyol produced by the catalytic hydrogenation of sugars (glucose). It is used in the production of sugarless gum, candy, groceries, and pharmaceuticals.

Crystalline sorbitol is currently classifiable under item 2905.44.0000 of the Harmonized Tariff Schedule of the United States (HTSUS). Although the HTSUS subheading is provided for convenience and Customs purposes, the written description of the merchandise under review is dispositive of whether or not the merchandise is covered by the review.

Rescission of Review

On June 22, 2000, in response to the Department's questionnaire, Amylum stated that it had made no shipments of the subject merchandise to the United States during the period of review (POR). The Department then examined U.S. Customs data, and found no evidence that Amylum had any shipments during the POR. Consequently, on August 15, 2000 the Department invited petitioner to submit for the record any contrary information it may have. On August 18, 2000 petitioner submitted publicly available Customs data which it argued demonstrated that Amylum must have had shipments during the POR. Subsequently, the Department examined Customs entry documentation for relevant imports during the POR. From this examination and our prior review of Customs data, we determined that Amylum had no shipments during the POR. For additional information, see the Memorandum from Robert James to Joseph Spetrini, dated March 27, 2001, on file in the Central Records Unit of the Department of Commerce building. Because there is no evidence suggesting that Amylum had any entries during the POR, we are rescinding this review pursuant to section 351.213(d)(3) of the Department's regulations.

This notice is in accordance with sections 751 of the Tariff Act and section 351.213(d) of the Department's regulations.

Dated: April 19, 2001.
Joseph A. Spetrini,
Deputy Assistant Secretary, Enforcement Group III.

[FR Doc. 01-10280 Filed 4-24-01; 8:45 am]

BILLING CODE 3510-DS-P